DEPARTMENT OF HEALTH AND HUMAN SERVICES

Administration for Community Living

Agency Information Collection Activities; Proposed Collection; Comment Request; Developmental Disabilities Protection and Advocacy Program Performance Report

ACTION: Notice.

SUMMARY: The Adminstration for Community Living (ACL) is announcing that the proposed collection of information listed below has been submitted to the Office of Management and Budget (OMB) for review and clearance under the Paperwork Reduction Act of 1995.

DATES: Submit written or electronic comments on the collection of information by June 6, 2014.

ADDRESSES: Submit written comments on the collection of information by fax 202.395.5806 or by email to OIRA_submission@omb.eop.gov, Attn: OMB Desk Officer for ACL.

FOR FURTHER INFORMATION CONTACT: Shawn Callaway at 202-690-5781 or email: Shawn.Callaway@acl.gov.

Annual Burden Estimates
Instrument | Number of respondents | Number of responses per respondent | Average burden hours per response | Total burden hours
State Developmental Disabilities Protection and Advocacy Program Performance Report | 57 | 1 | 44 | 2,508

Estimated Total Annual Burden Hours: 2,508.

SUPPLEMENTARY INFORMATION: This information collection is required by federal statute. Each State Protection and Advocacy System must prepare and submit a Program Performance Report for the preceding fiscal year of activities and accomplishments and of conditions in the State. The information in the Annual Report will be aggregated into a national profile of Protection and Advocacy Systems. It will also provide the Administration on Intellectual and Developmental Disabilities (AIDD) with an overview of program trends and achievements and will enable AIDD to respond to administration and congressional requests for specific information on program activities. This information will also be used to submit a Biennial Report to Congress as well as to comply with requirements in the Government Performance and Results Act of 1993.

Dated: May 2, 2014.
Kathy Greenlee,
Administrator and Assistant Secretary for Aging.

[FR Doc. 2014-10468 Filed 5-6-14; 8:45 am]

BILLING CODE 4154-01-P